DEPARTMENT OF AGRICULTURE

Animal and Plant Health Inspection Service

[Docket No. 04-041-2]

Availability of Environmental Assessment for Field Test of Genetically Engineered Organisms

AGENCY: Animal and Plant Health Inspection Service, USDA.

ACTION: Notice; extension of comment period.

SUMMARY: We are extending the comment period for our notice that advises the public about the environmental assessment the Animal and Plant Health Inspection Service has prepared for a confined field of corn plants genetically engineered to express the protein trypsinogen. This action will allow interested persons additional time to prepare and submit comments.

DATES: We will consider all comments that we receive on or before August 10, 2004.

ADDRESSES: You may submit comments by any of the following methods:

• Postal Mail/Commercial Delivery: Please send four copies of your comment (an original and three copies) to Docket No. 04-041-1, Regulatory Analysis and Development, PPD, APHIS, Station 3C71, 4700 River Road Unit 118, Riverdale, MD 20737-1238. Please state that your comment refers to Docket No. 04-041-1.

• E-mail: Address your comment to regulations@aphis.usda.gov. Your comment must be contained in the body of your message; do not send attached files. Please include your name and address in your message and “Docket No. 04-041-1” on the subject line.

• Agency Web Site: Go to http://www.aphis.usda.gov/ppd/rad/cominst.html for a form you can use to submit an e-mail comment through the APHIS Web site.

Reading Room: You may read the environmental assessment and any comments that we receive in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Michael Wach, BRS, APHIS, 4700 River Road Unit 147, Riverdale, MD 20737-1236; (301) 734-0485. To obtain a copy of the environmental assessment, contact Ms. Kay Peterson at (301) 734-4885; e-mail: Kay.Peterson@aphis.usda.gov. The environmental assessment is also available on the Internet at http://www.aphis.usda.gov/brs/aphisdocs/04_11402r_ea.pdf.

SUPPLEMENTARY INFORMATION:

On June 25, 2004, we published in the Federal Register (69 FR 35573-35574, Docket No. 04-041-1) a notice advising the public that the Animal and Plant Health Inspection Service has prepared an environmental assessment for a confined field of corn plants genetically engineered to express the protein trypsinogen.

Comments on the notice were required to be received on or before July 26, 2004. We are extending the comment period on Docket No. 04-041-1 for an additional 15 days, ending August 10, 2004. This action will allow interested persons additional time to prepare and submit comments.

Authority: 7 U.S.C. 1622n and 7701-7772; 31 U.S.C. 9701; 7 CFR 2.22, 2.80, and 371.3.

Done in Washington, DC, this 22nd day of July 2004.
Kevin Shea,
Acting Administrator, Animal and Plant Health Inspection Service.

[FR Doc. 04-17026 Filed 7-23-04; 8:45 am]

BILLING CODE 3410-34-P